DEPARTMENT OF DEFENSE

Department of the Army, Corps of Engineers

32 CFR Part 555

[Docket ID: COE-2022-0001]

RIN 0710-AB43

Corps of Engineers, Research and Development, Laboratory Research and Development and Tests, Work for Others

AGENCY: U.S. Army Corps of Engineers (Corps), Department of Defense.

ACTION: Final rule.

SUMMARY: This final rule removes the U.S. Army Corps of Engineers' part titled, “Corps of Engineers, Research and Development, Laboratory Research and Development and Tests, Work for Others.” This part is redundant with existing internal agency guidance and otherwise covers internal agency operations that have no public compliance component or adverse public impact. Therefore, this part can be removed from the Code of Federal Regulations (CFR).

DATES: This rule is effective on April 21, 2023.

FOR FURTHER INFORMATION CONTACT: Mr. Anthony Niles at (202) 761-1849 or by email at Anthony.R.Niles@usace.army.mil.

SUPPLEMENTARY INFORMATION: This final rule removes the Corps' regulation at 32 CFR part 555, titled “Corps of Engineers, Research and Development, Laboratory Research and Development and Tests, Work for Others.” Part 555 defines and establishes policies and procedures applicable to the performance of research, development, and tests at the Corps' laboratory installations for other governmental and private agencies and organizations. Removing this part reduces confusion for the public as well as for the Corps regarding the current policies that govern performance of research, development, and tests at Corps facilities for other governmental and private agencies and organizations. Part 555 refers to an old structure of independent laboratories within the Corps and to facilities that no longer exist. The new updated internal agency policy refers to the more recent organization of the Engineer Research and Development Center (ERDC) and new laboratories and centers since publication of Part 555.

For public accessibility purposes, the updated internal agency policy on this topic may be found in various sources. The applicability content covering the organizational elements and description of services that apply to research and developments and tests to be performed for other organizations are included in the strategy document providing the Corps' overarching approach to research and development, titled “USACE Research and Development Strategy” (Strategy), which published in November 2021 (available at https://www.erdc.usace.army.mil/About/USACE-Research-and-Development-Strategy-2022/); in Engineer Circular 70-2-38, “Civil Works Research, Development, and Technology Process,” which published on May 31, 2021 (available at https://www.publications.usace.army.mil/LinkClick.aspx?fileticket=eyI9_Sz-9Ng%3d&tabid=16426&portalid=76&mid=31387); and in the Engineer Regulation 1140-1-211 (ER 1140-1-211), “Reimbursable Services,” which published on September 10, 2020 (available at https://www.publications.usace.army.mil/LinkClick.aspx?fileticket=DKAjxGGNI5w%3d&tabid=16441&portalid=76&mid=43546). The policy content covering the terms and conditions of services, agreements, and funds for services are covered in ER 1140-1-211, and the policies, procedures and responsibilities for support agreements are covered in the DoD Instruction 4000.19, “Support Agreements,” which published on December 16, 2020 (available at https://www.esd.whs.mil/Portals/54/Documents/DD/issuances/dodi/400019p.pdf?ver=AgPBMZwTey4t8dkHDRM4ng%3D%3D). The terms of providing reimbursement for services content are discussed in ER 1140-1-211. Additional content on this topic can be found in the Engineer Regulation 70-1-5, “Corps of Engineers Research and Development Program,” which published on December 31, 1989 (available at https://www.publications.usace.army.mil/Portals/76/Publications/EngineerRegulations/ER_70-1-5.pdf).

The solicitation of public comment for this removal is unnecessary because the rule is out-of-date and has no public compliance component or adverse public impact. Because the regulation does not place a burden on the public, its removal does not provide a reduction in public burden or costs. This rule is not significant under Executive Order 12866, titled “Regulatory Planning and Review.”

List of Subjects in 32 CFR Part 555

Engineers Corps, Intergovernmental relations, Laboratories, Research.

PART 555—[REMOVED]

Accordingly, for the reasons stated in the preamble and under the authority of 5 U.S.C. 301, the Corps removes 32 CFR part 555.

Approved by:
Michael L. Connor,
Assistant Secretary of the Army (Civil Works)

[FR Doc. 2023-08399 Filed 4-20-23; 8:45 am]

BILLING CODE 3720-58-P